DEPARTMENT OF ENERGY

Federal Energy Regulatory Commission

[Docket No. CP11-291-000]

El Paso Natural Gas Company; Notice of Application

On April 26, 2011, El Paso Natural Gas Company (El Paso), P.O. Box 1087, Colorado Springs, CO 80944, filed with the Federal Energy Regulatory Commission (Commission) an application under section 7(b) of the Natural Gas Act (NGA) and Part 157.5 of the Commission's regulations, requesting authorization to abandon in place a compressor unit, with appurtenances, at El Paso's Monument Compressor Station located in Lea County, New Mexico. Specifically, El Paso is seeking to abandon Unit 2B since it has become functionally obsolete and is no longer needed to provide natural gas transportation service. The filing is available for review at the Commission in the Public Reference Room or may be viewed on the Commission's Web site at http://www.ferc.gov using the “eLibrary” link. Enter the docket number excluding the last three digits in the docket number field to access the document. For assistance, contact FERC at FERCOnlineSupport@ferc.gov or call toll-free, (866) 208-3676 or TTY, (202) 502-8659.

Questions regarding the application may be directed to Susan C. Stires, Director, Regulatory Affairs, Rates & Certificates, El Paso Natural Gas Company, P.O. Box 1087, Colorado Springs, CO 80944, at (719) 667-7514 (phone), (719) 667-7534 (fax), or EPNGRegulatoryAffairs@elpaso.com or to Craig V. Richardson, Vice President and General Counsel, El Paso Natural Gas Company, P.O. Box 1087, Colorado Springs, Colorado 80944, at (719) 520-4534 (phone) or (719) 520-4415 (fax), or EPNGLegalFERC@elpaso.com.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission encourages electronic submission of protests and interventions in lieu of paper using the “eFiling” link at http://www.ferc.gov. Persons unable to file electronically should submit an original and seven copies of the protest or intervention to the Federal Energy Regulatory Commission, 888 First Street, NE., Washington, DC 20426. There is an “eSubscription” link on the Web site that enables subscribers to receive e-mail notification when a document is added to a subscribed docket(s).

Comment Date: 5 p.m. Eastern Time on May 27, 2011.

Dated: May 6, 2011.
Kimberly D. Bose,
Secretary.

[FR Doc. 2011-11740 Filed 5-12-11; 8:45 am]

BILLING CODE 6717-01-P